COMMITTEE FOR THE IMPLEMENTATION OF TEXTILE AGREEMENTS

Reduction of Import Limits for Certain Cotton and Man-Made Fiber Textiles and Textile Products Produced or Manufactured in the Socialist Republic of Vietnam to Address Data Discrepancies

May 13, 2004.

AGENCY: Committee for the Implementation of Textile Agreements (CITA).

ACTION: Issuing a directive to the Commissioner, Bureau of Customs and Border Protection.

EFFECTIVE DATE: May 17, 2004.

FOR FURTHER INFORMATION CONTACT: Naomi Freeman, International Trade Specialist, Office of Textiles and Apparel, U.S. Department of Commerce, (202) 482-4212. For information on the quota status of these limits, refer to the Quota Status Reports posted on the bulletin boards of each Customs port, call (202) 927-5850, or refer to the Bureau of Customs and Border Protection website at http://www.cbp.gov. For information on embargoes and quota re-openings, refer to the Office of Textiles and Apparel website at http://otexa.ita.doc.gov.

SUPPLEMENTARY INFORMATION:

Authority: Section 204 of the Agricultural Act of 1956, as amended (7 U.S.C. 1854); Executive Order 11651 of March 3, 1972, as amended.

During the negotiation of the U.S.-Vietnam Bilateral Textile Agreement, the United States became aware of possible discrepancies in the data regarding U.S. imports from Vietnam. As the specific limits in the Agreement were based in part on such data, the United States and Vietnam agreed to allow for adjustments to the specific limits if the United States discovered clear evidence of data discrepancies, presented this evidence to the Government of Vietnam, and the United States and Vietnam were unable to reach a satisfactory solution to resolve the discrepancies. U.S. Customs and Border Protection (CBP) undertook an extensive textile production verification visit to Vietnam and reported its findings to CITA in November. The United States has held consultations with the Government of Vietnam, presented clear evidence, and was unable to reach a mutually satisfactory solution with the Government of Vietnam, so CITA has concluded that approximately 1,000,000 dozen should be deducted from the negotiated limits to address data discrepancies found by CBP. In accordance with Paragraph 19(B) of the U.S.-Vietnam Bilateral Agreement, CITA is directing the Commissioner of CBP to adjust the limits for certain categories.

In addition, previously applied flexibility is being readjusted to reflect the revised base levels.

A description of the textile and apparel categories in terms of HTS numbers is available in the CORRELATION: Textile and Apparel Categories with the Harmonized Tariff Schedule of the United States (see Federal Register notice 69 FR 4926, published on February 2, 2004). Also see 68 FR 69673, published on December 15, 2003.

James C. Leonard III,
Chairman, Committee for the Implementation of Textile Agreements.

Committee for the Implementation of Textile Agreements

May 13, 2004.

Commissioner,

Bureau of Customs and Border Protection, Washington, DC 20229

Dear Commissioner: This directive amends, but does not cancel, the directive issued to you on December 10, 2003, by the Chairman, Committee for the Implementation of Textile Agreements. That directive concerns imports of certain cotton, wool and man-made fiber textiles and textile products, produced or manufactured in Vietnam and exported during the twelve-month period which began on January 1, 2004 and extends through December 31, 2004.

Effective on May 17, 2004, you are directed to adjust the limits for the following categories, as provided for under the terms of the current bilateral textile agreement between the Governments of the United States and Vietnam:

Category | Restraint limit ¹
334/335 | 664,537 dozen.
338/339 | 13,612,739 dozen.
340/640 | 2,045,803 dozen.
341/641 | 784,430 dozen.
342/642 | 556,409 dozen.
345 | 293,408 dozen.
347/348 | 6,909,409 dozen.
351/651 | 491,804 dozen.
352/652 | 1,873,677 dozen.
359-C/659-C ² | 334,572 kilograms.
638/639 | 1,229,457 dozen.
645/646 | 198,793 dozen.
647/648 | 1,999,245 dozen.
¹ The limits have not been adjusted to account for any imports exported after December 31, 2003.
² Category 359-C: only HTS numbers 6103.42.2025, 6103.49.8034, 6104.62.1020, 6104.69.8010, 6114.20.0048, 6114.20.0052, 6203.42.2010, 6203.42.2090, 6204.62.2010, 6211.32.0010, 6211.32.0025 and 6211.42.0010; Category 659-C: only HTS numbers 6103.23.0055, 6103.43.2020, 6103.43.2025, 6103.49.2000, 6103.49.8038, 6104.63.1020, 6104.63.1030, 6104.69.1000, 6104.69.8014, 6114.30.3044, 6114.30.3054, 6203.43.2010, 6203.43.2090, 6203.49.1010, 6203.49.1090, 6204.63.1510, 6204.69.1010, 6210.10.9010, 6211.33.0010, 6211.33.0017 and 6211.43.0010.

The Committee for the Implementation of Textile Agreements has determined that these actions fall within the foreign affairs exception to the rulemaking provisions of 5 U.S.C. 553(a)(1).

Sincerely,

James C. Leonard III,

Chairman, Committee for the Implementation of Textile Agreements.

[FR Doc. 04-11213 Filed 5-13-04; 12:36 pm]

BILLING CODE 3510-DR-S